DEPARTMENT OF ENERGY

Federal Energy Regulatory Commission

Notice of FERC Staff Attendance at Southwest Power Pool Independent Coordinator of Transmission (ICT) Stakeholder Policy Committee Meeting

April 14, 2009.

The Federal Energy Regulatory Commission hereby gives notice that members of its staff may attend the meeting noted below. Their attendance is part of the Commission's ongoing outreach efforts.

ICT Stakeholder Policy Committee Meeting

April 23, 2009 (9 a.m.-3 p.m.), Sheraton North Houston, 15700 John F. Kennedy Blvd., Houston, TX 77032. 281-442-5100.

The discussions may address matters at issue in the following proceedings:

Docket No. OA07-32 | Entergy Services, Inc.
Docket No. OA08-59 | Entergy Services, Inc.
Docket No. OA08-75 | Entergy Services, Inc.
Docket No. OA08-92 | Entergy Services, Inc.
Docket No. OA08-149 | Entergy Services, Inc.
Docket No. EL00-66 | Louisiana Public Service Commission v. Entergy Services, Inc.
Docket No. EL01-88 | Louisiana Public Service Commission v. Entergy Services, Inc.
Docket No. EL07-52 | Louisiana Public Service Commission v. Entergy Services, Inc.
Docket No. EL05-15 | Arkansas Electric Cooperative, Corp. v. Entergy Services, Inc.
Docket No. EL08-59 | ConocoPhillips v. Entergy Services, Inc.
Docket No. EL08-60 | Union Electric v. Entergy Services, Inc.
Docket No. EL09-35 | Cottonwood Energy LLP v. Entergy Services, Inc.
Docket No. EL09-43 | Arkansas Public Service Commission v. Entergy Services, Inc.
Docket No. ER03-583 | Entergy Services, Inc.
Docket No. ER05-1065 | Entergy Services, Inc.
Docket No. ER07-682 | Entergy Services, Inc.
Docket No. ER07-956 | Entergy Services, Inc.
Docket No. ER07-1252 | Entergy Services, Inc.
Docket No. ER08-513 | Entergy Services, Inc.
Docket No. ER08-515 | Entergy Services, Inc.
Docket No. ER08-767 | Entergy Services, Inc.
Docket No. ER08-774 | Entergy Services, Inc.
Docket No. ER08-844 | Entergy Services, Inc.
Docket No. ER08-1056 | Entergy Services, Inc.
Docket No. ER08-1057 | Entergy Services, Inc.
Docket No. ER09-555 | Entergy Services, Inc.
Docket No. ER09-636 | Entergy Services, Inc.
Docket No. ER09-683 | Entergy Services, Inc.
Docket No. ER09-833 | Entergy Services, Inc.
Docket No. ER09-877 | Entergy Services, Inc.
Docket No. ER09-878 | Entergy Services, Inc.
Docket No. ER09-882 | Entergy Services, Inc.
Docket No. ER09-985 | Entergy Services, Inc.

These meetings are open to the public.

For more information, contact Patrick Clarey, Office of Energy Market Regulation, Federal Energy Regulatory Commission at (317) 249-5937 or patrick.clarey@ferc.gov.

Kimberly D. Bose,
Secretary.

[FR Doc. E9-9077 Filed 4-20-09; 8:45 am]

BILLING CODE 6717-01-P